FEDERAL COMMUNICATIONS COMMISSION

[OMB 3060-0110, OMB 3060-0214 and 3060-0386; FR ID 159722]

Information Collection Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

DATES: Written PRA comments should be submitted on or before October 10, 2023. If you anticipate that you will be submitting comments but find it difficult to do so within the period of time allowed by this notice, you should advise the contact listed below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION: The FCC may not conduct or sponsor a collection of information unless it displays a currently valid Office of Management and Budget (OMB) control number. No person shall be subject to any penalty for failing to comply with a collection of information subject to the PRA that does not display a valid OMB control number.

OMB Control Number: 3060-0214.

Title: Sections 73.3526 and 73.3527, Local Public Inspection Files; Sections 73.1212, 76.1701 and 73.1943, Political Files.

Form Number: N/A.

Type of Review: Revision of a currently approved collection.

Respondents: Business or other for profit entities; Not for profit institutions; State, Local or Tribal government; Individuals or households.

Number of Respondents: 23,819 respondents; 66,392 responses.

Estimated Time per Response: 1-52 hours.

Frequency of Response: On occasion reporting requirement, Recordkeeping requirement, Third party disclosure requirement.

Obligation to Respond: Required to obtain or retain benefits. Statutory authority for these collections is contained in Sections 151, 152, 154(i), 303, 307, 308, and 315 of the Communications Act of 1934, as amended.

Total Annual Burden: 2,065,841 hours.

Total Annual Cost: No cost.

Needs and Uses: On July 20, 2023, the Commission adopted Amendment of Parts 73 and 74 of the Commission's Rules to Establish Rules for Digital Low Power Television and Television Translator Stations, Fifth Report and Order, FCC 23-58 (rel. July 20, 2023) (FM6 Report and Order). The Commission adopted a new requirement that FM6 LPTV stations maintain a public inspection file similar to the requirement in the rule for FM radio stations. This submission is being made to the Office of Management and Budget (OMB) for approval of the local public inspection file requirement for FM6 LPTV stations as adopted in the FM6 Report and Order. This requirement is contained in 47 CFR 73.3526.

OMB Control Number: 3060-0110.

Title: FCC Form 2100, Application for Renewal of Broadcast Station License, LMS Schedule 303-S.

Form Number: FCC 2100, LMS Schedule 303-S.

Type of Review: Revision of a currently approved collection.

Respondents: Business or other for-profit entities; Not for profit institutions; State, Local or Tribal Governments.

Number of Respondents and Responses: 5,140 respondents, 5,140 responses.

Estimated Time per Response: 0.5 hours-12 hours.

Frequency of Response: On occasion reporting requirement; Every eight-year reporting requirement; Third party disclosure requirement.

Total Annual Burden: 14,868 hours.

Total Annual Costs: $3,994,164.

Obligation of Response: Required to obtain or retain benefits. The statutory authority for the collection is contained Sections 154(i), 303, 307 and 308 of the Communications Act of 1934, as amended, and Section 204 of the Telecommunications Act of 1996.

Needs and Uses: On July 20, 2023, the Commission adopted Amendment of Parts 73 and 74 of the Commission's Rules to Establish Rules for Digital Low Power Television and Television Translator Stations, Fifth Report and Order, FCC 23-58 (rel. July 20, 2023) (FM6 Report and Order). The Commission adopted a new requirement that FM6 LPTV stations certify in their license renewal application that they have continued to provide FM6 operations in accordance with the FM6 rules during their prior license term. The Commission delegated authority to the Media Bureau to determine the most appropriate means for these stations to make such certification, be it by an attachment to the renewal application or some other reasonable means. This requirement is contained in 47 CFR 74.790(o)(10).

This submission is being made to the Office of Management and Budget (OMB) for approval of the renewal certification requirement for FM6 LPTV stations as adopted in the FM6 Report and Order. Since the certification will be included as an additional exhibit to the existing form, it did not necessitate changes to LMS Form 2100 Schedule 303-S.

OMB Control No.: 3060-0386.

Title: Special Temporary Authorization (STA) Requests; Notifications; and Informal Filings; Sections 1.5, 73.1615, 73.1635, 73.1740 and 73.3598; CDBS Informal Forms; Section 74.788; Low Power Television, TV Translator and Class A Television Digital Transition Notifications; Section 73.3700(b)(5), Post Auction Licensing; Section 73.3700(f).

Form No.: None.

Type of Review: Revision of a currently information collection.

Respondents: Business or other for-profit entities; Not for profit institutions; State, local or Tribal government.

Number of Respondents and Responses: 5,537 respondents and 5,537 responses.

Estimated Time per Response: 0.50-4.0 hours.

Frequency of Response: One-time reporting requirement and on occasion reporting requirement.

Obligation To Respond: Required to obtain or retain benefits. The statutory authority for this collection is contained in 47 U.S.C. 151, 154(i), 157 and 309(j) as amended; Middle Class Tax Relief and Job Creation Act of 2012, Public Law 112-96, 6402 (codified at 47 U.S.C. 309(j)(8)(G)), 6403 (codified at 47 U.S.C. 1452), 126 Stat. 156 (2012) (Spectrum Act); and Sections 1, 4(i) and (j), 7, 301, 302, 303, 307, 308, 309, 312, 316, 318, 319, 324, 325, 336, and 337 of the Communications Act of 1934, as amended.

Total Annual Burden: 4,353 hours.

Annual Cost Burden: $1,834,210.

Needs and Uses: On July 20, 2023, the Commission adopted Amendment of Parts 73 and 74 of the Commission's Rules to Establish Rules for Digital Low Power Television and Television Translator Stations, Fifth Report and Order, FCC 23-58 (rel. July 20, 2023) (FM6 Report and Order). The Commission adopted a one-time requirement that FM6 LPTV stations notify the Media Bureau via letter filing as to whether they will continue FM6 operations and confirm their precise FM6 operational parameters. In addition, in the FM6 Report and Order, the Commission adopted a rule, 47 CFR 74.790(o)(9) that requires FM6 LPTV stations that are permanently discontinuing their FM6 operations to notify the Commission pursuant to section 73.1750 of the rules. This submission is being made to the Office of Management and Budget (OMB) for approval of the one-time letter notification and discontinuation of operations notification requirements for FM6 LPTV stations as adopted in the FM6 Report and Order.

Federal Communications Commission.
Marlene Dortch,
Secretary, Office of the Secretary.

[FR Doc. 2023-17007 Filed 8-8-23; 8:45 am]

BILLING CODE 6712-01-P